DEPARTMENT OF ENERGY

Federal Energy Regulatory Commission

Combined Notice of Filings #1

Take notice that the Commission received the following electric corporate filings:

Docket Numbers: EC19-66-000.

Applicants: Ashtabula Wind II, LLC, Garden Wind, LLC, Marshall Solar, LLC, Roswell Solar, LLC, Silver State Solar Power South, LLC, White Oak Energy LLC, NEP US SellCo, LLC, NEP US SellCo II, LLC, NextEra Energy Partners Acquisitions, LL.

Description: Application for Authorization Under Section 203 of the Federal Power Act, et al. of Ashtabula Wind II, LLC, et al. under EC19-66.

Filed Date: 3/7/19.

Accession Number: 20190307-5194.

Comments Due: 5 p.m. ET 3/28/19.

Take notice that the Commission received the following electric rate filings:

Docket Numbers: ER10-3193-013.

Applicants: Brooklyn Navy Yard Cogeneration Partners, L.P.

Description: Supplement to August 23, 2018 Notice of Non-Material Change in Status of Brooklyn Navy Yard Cogeneration Partners, L.P.

Filed Date: 3/1/19.

Accession Number: 20190301-5363.

Comments Due: 5 p.m. ET 3/22/19.

Docket Numbers: ER10-2042-028 ; ER10-1945-008; ER10-1944-006; ER10-2051-008; ER10-1942-020; ER17-696-008; ER14-2931-006; ER10-1941-010; ER10-2043-008; ER10-2029-010; ER10-2041-008; ER18-1321-001; ER10-2040-008; ER10-1938-023; ER10-2036-009; ER13-1407-007; ER10-1934-022; ER10-1893-022; ER10-3051-027; ER10-2985-026; ER10-3049-027; ER10-1889-006; ER10-1888-010; ER10-1885-010; ER15-748-004; ER10-1884-010; ER10-1883-010; ER10-1878-010; ER10-3260-008; ER10-1877-005; ER10-1895-006; ER10-1876-010; ER10-1875-010; ER10-1873-010; ER10-1871-007; ER10-1870-006; ER11-4369-007; ER16-2218-007; ER12-1987-008; ER10-1947-010; ER12-2645-003; ER10-1863-006; ER10-1862-022; ER10-1933-005; ER12-2261-009; ER10-1865-009; ER10-1858-006; ER13-1401-006; ER10-2044-008.

Applicants: Calpine Energy Services, L.P., Auburndale Peaker Energy Center, L.L.C., Bethpage Energy Center 3, LLC, Calpine Bethlehem, LLC, Calpine Construction Finance Company, LP, Calpine Energy Solutions, LLC, Calpine Fore River Energy Center, LLC, Calpine Gilroy Cogen, L.P., Calpine Mid-Atlantic Generation, LLC, Calpine Mid-Atlantic Marketing, LLC, Calpine Mid-Merit II, LLC, Calpine Mid-Merit, LLC Calpine New Jersey Generation, LLC, Calpine Power America—CA, LLC, Calpine Vineland Solar, LLC, CCFC Sutter Energy, LLC, CES Marketing IX, LLC, CES Marketing X, LLC, Champion Energy, LLC, Champion Energy Marketing LLC, Champion Energy Services, LLC, CPN Bethpage 3rd Turbine, Inc., Creed Energy Center, LLC, Delta Energy Center, LLC, Geysers Power Company, LLC, Gilroy Energy Center, LLC, Goose Haven Energy Center, LLC, Granite Ridge Energy, LLC, Hermiston Power, LLC, KIAC Partners, Los Esteros Critical Energy Facility LLC, Los Medanos Energy Center, LLC, Metcalf Energy Center, LLC, Morgan Energy Center, LLC, Nissequogue Cogen Partners, North American Power and Gas, LLC, North American Power Business, LLC, O.L.S. Energy-Agnews, Inc., Otay Mesa Energy Center, LLC, Pastoria Energy Facility L.L.C., Pine Bluff Energy, LLC, RockGen Energy, LLC, Power Contract Financing, L.L.C., Russell City Energy Company, LLC, South Point Energy Center, LLC, Westbrook Energy Center, LLC, Zion Energy LLC, TBG Cogen Partners, Garrison Energy Center LLC.

Description: Supplement to July 31, 2018 Notification of Change in Status of the Calpine MBR Sellers (Attachments E & F workable Excel spreadsheets).

Filed Date: 3/7/19.

Accession Number: 20190307-5108.

Comments Due: 5 p.m. ET 3/28/19.

Docket Numbers: ER10-2042-029 ; ER10-1942-021; ER17-696-009; ER10-1938-024; ER10-1934-023; ER10-1893-023; ER10-3051-028; ER10-2985-027; ER10-3049-028; ER11-4369-008; ER16-2218-008; ER10-1862-023.

Applicants: Calpine Energy Services, L.P., Calpine Construction Finance Company, LP, Calpine Energy Solutions, LLC, Calpine Power America—CA, LLC, CES Marketing IX, LLC, CES Marketing X, LLC, Champion Energy, LLC, Champion Energy Marketing LLC, Champion Energy Services, LLC, North American Power and Gas, LLC, North American Power Business, LLC, Power Contract Financing, L.L.C.

Description: Supplement to August 31, 2018 Notification of Change in Status of the Indicated Calpine MBR Sellers (Asset Appendix workable Excel file).

Filed Date: 3/7/19.

Accession Number: 20190307-5110.

Comments Due: 5 p.m. ET 3/28/19.

Docket Numbers: ER19-1213-000.

Applicants: Wabash Valley Power Association, Inc.

Description: § 205(d) Rate Filing: Filing of New Wholesale Power Supply Contracts to be effective 7/1/2019.

Filed Date: 3/7/19.

Accession Number: 20190307-5178.

Comments Due: 5 p.m. ET 3/28/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 8, 2019.
Nathaniel J. Davis, Sr.,
Deputy Secretary.

[FR Doc. 2019-04840 Filed 3-14-19; 8:45 am]

BILLING CODE 6717-01-P